DEPARTMENT OF TRANSPORTATION

Federal Aviation Administration

14 CFR Part 71

[Docket No. FAA-2003-16534; Airspace Docket No. 03-ASO-19]

Establishment of Class D and E Airspace; Olive Branch, MS; Amendment of Class E Airspace; Memphis, TN

AGENCY: Federal Aviation Administration (FAA), DOT.

ACTION: Final rule; delay of effective date.

SUMMARY: This action delays indefinitely the establishment of Class D and E4 airspace at Olive Branch, MS, and the amendment of Class E5 airspace at Memphis, TN. The construction of a new federal contract tower with a weather reporting system has been delayed, with an uncertain completion date; therefore, the effective date of the establishment of Class D and E airspace and amendment of Class E airspace must also be delayed indefinitely.

EFFECTIVE DATE: The effective date of the final rule published February 3, 2004, at 69 FR 5009 (0901 UTC, April 15, 2004) is delayed indefinitely.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

Docket No. FAA-2003-16534, Airspace Docket No. 03-ASO-19, published in the Federal Register on February 3, 2004, (69 FR 5009), established Class D and E4 airspace at Olive Branch, MS, and amended Class E5 airspace at Memphis, TN. The construction of a federal contract tower and weather reporting system at Olive Branch Airport made this action necessary. This action was originally scheduled to become effective on April 15, 2004; however, an unforeseen delay in beginning construction on the tower has required the effective date of this action to be delayed. A notice announcing a new effective date will be published in the Federal Register at least 90 days prior to the new effective date.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Delay of Effective Date

The effective date on Docket No. FAA-2003-16534; Airspace Docket No. 03-ASO-19 is hereby delayed indefinitely.

Authority 49 U.S.C. app. 1348(a), 1354(a), 1510; E.O. 10854, 24 FR 9565, 3 CFR, 1959-1963 Comp., p. 389; 49 U.S.C. 106(g); 14 CFR 11.69.

* * * * *

Issued in College Park, Georgia, on February 9, 2004.
Jeffrey U. Vincent,
Acting Manager, Air Traffic Division, Southern Region.

[FR Doc. 04-4190 Filed 2-24-04; 8:45 am]

BILLING CODE 4910-13-M